DEPARTMENT OF ENERGY

Federal Energy Regulatory Commission

[Docket No. RP04-92-000]

Georgia Public Service Commission; Notice of Declaratory Order

December 5, 2003.

Take notice that on November 19, 2003, Georgia Public Service Commission (GPSC) tendered for filing a petition for a Declaratory Order in Docket No. RP04-92-000, requesting that the Commission declare:

Whether the FERC would preempt the Georgia Commission if the Georgia Commission adopted a plan that provided for the permanent assignment of the interstate capacity assets currently held by Atlanta Gas Light Company to certificated natural gas marketers and placed conditions upon that assignment of the interstate capacity assets.

Any person desiring to be heard or to protest said filing should file a motion to intervene or a protest with the Federal Energy Regulatory Commission, 888 First Street, NE., Washington, DC 20426, in accordance with Sections 385.214 or 385.211 of the Commission's Rules and Regulations. All such motions or protests must be filed on or before the date as indicated below. Protests will be considered by the Commission in determining the appropriate action to be taken, but will not serve to make protestants parties to the proceedings. Any person wishing to become a party must file a motion to intervene. This filing is available for review at the Commission in the Public Reference Room or may be viewed on the Commission's Web site at http://www.ferc.gov using the eLibrary. Enter the docket number excluding the last three digits in the docket number field to access the document. For assistance, please contact FERC Online Support at FERCOnlineSupport@ferc.gov or toll-free at (866) 208-3676, or TTY, contact (202) 502-8659. The Commission strongly encourages electronic filings. See, 18 CFR 385.2001(a)(1)(iii) and the instructions on the Commission's Web site under the e-Filing link.

Comment Date: December 26, 2003.
Magalie R. Salas,
Secretary .

[FR Doc. E3-00541 Filed 12-11-03; 8:45 am]

BILLING CODE 6717-01-P